DEPARTMENT OF COMMERCE

Economic Development Administration

Notice of Petitions by Firms for Determination of Eligibility To Apply for Trade Adjustment Assistance

AGENCY: Economic Development Administration, Department of Commerce.

ACTION: Notice and Opportunity for Public Comment.

Pursuant to Section 251 of the Trade Act 1974, as amended (19 U.S.C. 2341 et seq.), the Economic Development Administration (EDA) has received petitions for certification of eligibility to apply for Trade Adjustment Assistance (TAA) from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification Eligibility To Apply for Trade Adjustment Assistance
[05/08/2012 through 05/30/2012]
Firm name | Firm address | Date accepted for investigation | Product(s)
Lanco Assembly Systems, Inc. | 12 Thomas Drive, Westbrook, ME 04092 | 05/08/12 | The firm manufactures turnkey assembly and material handling equipment.
Liberty Tool | 4259 W Seltice Way, Coeur D Alene, ID 83814 | 05/09/12 | The firm manufactures custom injection molds.
F.E. Hale Manufacturing | 120 Benson Place, Frankfort, NY 13340 | 05/10/12 | The firm manufactures wooden bookcases and other wooden library and office furniture.
Sytech Engineering, Inc | 200 Stanley Street, Elk Grove Village, IL 60007 | 05/18/12 | The firm manufactures manufacturer Quick Die Change equipment.
Boardman Molded Products, Inc | 1110 Thalia Avenue, Youngstown, OH 44512 | 05/24/12 | The firm manufactures diverse injection molded plastic components, including flooring.
Major Custom Cable, Inc | 281 Lotus Drive, Jackson, MO 63755 | 05/30/12 | The firm manufactures custom pre-termed fiber optic and copper cable assemblies.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: May 31, 2012.
Bryan Borlik,
Director, TAA for Firms.

[FR Doc. 2012-13664 Filed 6-5-12; 8:45 am]

BILLING CODE 3510-WH-P